DEPARTMENT OF COMMERCE

International Trade Administration

[A-570-831]

Fresh Garlic from the People’s Republic of China: Extension of Time Limit for the Preliminary Results of Administrative Review

AGENCY: Import Administration, International Trade Administration, Department of Commerce.

EFFECTIVE DATE: August 4, 2008.

FOR FURTHER INFORMATION CONTACT: Scott Lindsay, AD/CVD Operations, Office 6, Import Administration, International Trade Administration, U.S. Department of Commerce, 14th Street and Constitution Avenue, NW, Washington DC 20230; telephone: (202) 482-0780.

SUPPLEMENTARY INFORMATION:

Background

On December 27, 2007, the Department of Commerce (“Department”) published a notice of initiation of an administrative review of fresh garlic from the People’s Republic of China (“PRC”), covering the period November 1, 2006, through October 31, 2007. See Initiation of Antidumping and Countervailing Duty Administrative Reviews, 72 FR 73315 (December 27, 2007). On March 28, 2008, after receiving quantity and value and separate rate responses, the Department selected the mandatory respondents for this review. The preliminary results of this administrative review are currently due on August 1, 2008.

Extension of Time Limit for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it is not practicable to complete the review within the foregoing time period. The Department finds that it is not practicable to complete the preliminary results by the current deadline of August 1, 2008. The Department has gathered and must analyze a significant amount of information pertaining to each company’s corporate structure and ownership, sales practices, and manufacturing methods. Furthermore, this review involves the extraordinarily complicated intermediate input methodology issue. Therefore, the Department requires additional time to analyze the questionnaire responses and to issue supplemental questionnaires.

Therefore, in accordance with section 751(a)(3)(A) of the Act, the Department is extending the time limit for the preliminary results by 120 days until no later than December 1, 2008,¹ which is 367 days after the last day of the anniversary month of the date of publication of the order. Unless extended, the final results continue to be due 120 days after the publication of the preliminary results, pursuant to section 751(a)(3)(A) of the Act and section 351.213(h)(1) of the Department’s regulations.

¹ 120 days from August 1, 2008, is November 29, 2008. However, Department practice dictates that where a deadline falls on a weekend, the appropriate deadline is the next business day. See Notice of Clarification: Application of ``Next Business Day'' Rule for Administrative Determination Deadlines Pursuant to the Act, 70 FR 24533 (May 10, 2005).

This notice is issued and published in accordance to sections 751(a)(1) and 777(i)(1) of the Act.

Dated: July 21, 2008.
Stephen J. Claeys,
Deputy Assistant Secretary for Import Administration.

[FR Doc. E8-17831 Filed 8-1-08; 8:45 am]

BILLING CODE 3510-DS-S